NATIONAL CREDIT UNION ADMINISTRATION

Agency Information Collection Activities: Submission to OMB for Revision of a Previously Approved Information Collection; Comment Request

AGENCY: National Credit Union Administration (NCUA).

ACTION: Request for comment.

SUMMARY: The NCUA intends to submit the following information collection to the Office of Management and Budget (OMB) for review and clearance under the Paperwork Reduction Act of 1995 (Pub. L. 104-13, 44 U.S.C. chapter 35). This information collection is published to obtain comments from the public.

DATES: Comments will be accepted until December 1, 2003.

ADDRESSES: Interested parties are invited to submit written comments to NCUA Clearance Officer or OMB Reviewer listed below:

Clearance Officer: Mr. Neil McNamara, (703) 518-6447, National Credit Union Administration, 1775 Duke Street, Alexandria, Virginia 22314-3428, Fax No. (703) 518-6669, E-mail: mcnamara@ncua.gov.

OMB Reviewer: Mr. Joseph F. Lackey, (202) 395-4741, Office of Management and Budget, Room 10226, New Executive Office Building, Washington, DC 20503.

FOR FURTHER INFORMATION CONTACT: Copies of the information collection request, with applicable supporting documentation, may be obtained by calling the NCUA Clearance Officer, Neil McNamara, (703) 518-6447. It is also available on the following Web site: http://www.NCUA.gov.

SUPPLEMENTARY INFORMATION: Proposal for the following collection of information:

OMB Number: 3133-0154.

Form Number: N/A.

Type of Review: Reinstatement, with change, of a previously approved collection for which approval has expired.

Title: Prompt Corrective Action Regulation; Risk-Based Net Worth Requirement.

Description: This collection merges to include the former 3133-0161 Prompt Corrective Action Regulation. Section 216 of the Federal Credit Union Act, 12. U.S.C. 1790d(d) requires the NCUA Board to adopt by regulation a system of prompt corrective action indexed to five capital categories which section 216 establishes. Section 216 of the Federal Credit Union Act, 12. U.S.C. 1790(d) also requires the NCUA Board to adopt, as a separate component of its system of prompt corrective action, a risk-based net worth requirement to apply to credit unions defined as “complex”. The regulation issued to meet this mandate includes mandates for collection of information in certain cases.

Respondents: All Federally Insured Credit Unions.

Estimated No. of Respondents/Recordkeepers: 885.

Estimated Burden Hours Per Response: 52.4 hours.

Frequency of Response: Recordkeeping, reporting on occasion, quarterly and semi-annually.

Estimated Total Annual Burden Hours: 48,476 hours.

Estimated Total Annual Cost: $0.

By the National Credit Union Administration Board on September 24, 2003.
Becky Baker,
Secretary of the Board.

[FR Doc. 03-24763 Filed 9-29-03; 8:45 am]

BILLING CODE 7535-01-P